DEPARTMENT OF ENERGY

Federal Energy Regulatory Commission

[ P-13590-000]

Lockhart Power Company; Notice of Intent To File License Application, Filing of Pre-Application Document, and Approving Use of the Traditional Licensing Process

November 23, 2009.

a. Type of Filing: Notice of Intent to File License Application and Request to Use the Traditional Licensing Process.

b. Project No.: 13590-000.

c. Date Filed: September 28, 2009.

d. Submitted By: Lockhart Power Company (Lockhart Power).

e. Name of Project: Riverdale Hydroelectric Project.

f. Location: On the Enoree River in Spartanburg and Laurens Counties, South Carolina. No federal lands are occupied by the project works or located within the project boundary.

g. Filed Pursuant to: 18 CFR 5.3 of the Commission's Regulations

h. Potential Applicant Contact: Bryan Stone, Lockhart Power Company, Chief Operating Officer, 420 River Street, P.O. Box 10, Lockhart, South Carolina 29364; 1-800-368-1289.

i. FERC Contact: Bryan Roden-Reynolds at (202) 502-6618; or e-mail at bryan.roden-reynolds@ferc.gov.

j. Lockhart Power filed its request to use the Traditional Licensing Process on September 28, 2009. Lockhart Power provided public notice of its request on September 29 and 30, 2009. In a letter dated November 20, 2009, the Director of the Office of Energy Projects approved Lockhart Power's request to use the Traditional Licensing Process.

k. With this notice, we are initiating informal consultation with: (a) The U.S. Fish and Wildlife Service and National Marine Fisheries Service (NMFS) under section 7 of the Endangered Species Act and the joint agency regulations thereunder at 50 CFR part 402; (b) NMFS under section 305(b) of the Magnuson-Stevens Fishery Conservation and Management Act and implementing regulations at 50 CFR 600.920; and (c) the South Carolina State Historic Preservation Officer, as required by Section 106, National Historical Preservation Act, and the implementing regulations of the Advisory Council on Historic Preservation at 36 CFR 800.2.

l. With this notice, we are designating Lockhart Power as the Commission's non-federal representative for carrying out informal consultation, pursuant to Section 7 of the Endangered Species Act, Section 305 of the Magnuson-Stevens Fishery Conservation and Management Act, and Section 106 of the National Historic Preservation Act.

m. Lockhart Power filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits, in the docket number field to access the document. For assistance, contact FERC Online Support at FERCONlineSupport@ferc.gov, or toll free at 1-866-208-3676, or for TTY, (202) 502-8659. A copy is also available for inspection and reproduction at the address in paragraph h.

o. Register online at http://www.ferc.gov/docs-filing/esubscription.asp to be notified via e-mail of new filings and issuances related to this or other pending projects. For assistance, contact FERC Online Support.

Kimberly D. Bose,
Secretary.

[FR Doc. E9-28793 Filed 12-1-09; 8:45 am]

BILLING CODE 6717-01-P